SOCIAL SECURITY ADMINISTRATION

Statement of Organization, Functions and Delegations of Authority

This statement amends Part T of the Statement of the Organization, Functions and Delegations of Authority that covers the Social Security Administration (SSA). This notice retitles the Special Counsel Staff (SCS) (TAH-2) in the Office of Hearings and Appeals (TAH), Office of Disability and Income Security Programs (TA). The changes are as follows: Chapter TA, Office of Disability and Income Security Programs, SubChapter TAH, Office of Hearings and Appeals

Section TAH.10 The Office of Hearings and Appeals—(Organization)

The Office of Hearings and Appeals, under the leadership of the Associate Commissioner for Hearings and Appeals, includes:

C. The Immediate Office of the Associate Commissioner for Hearings and Appeals (TAH) which includes:

Retitle 2: The Special Counsel Staff (TAH-2) to The Office of Special Programs and Services (OSPS) (TAH-2).

Section TAH.20 The Office of Hearings and Appeals—(Functions)

C. The Immediate Office of the Associate Commissioner for Hearings and Appeals (TAH) provides the Associate Commissioner and the Deputy Associate Commissioner with staff assistance on the full range of their responsibilities.

Retitle 2: The Special Counsel Staff (SCS) (TAH-2) to The Office of Special Programs and Services (OSPS) (TAH-2).

Delete: the acronym “SCS”.

Add: the acronym “OSPS” in place of “SCS”.

Dated: October 2, 2003.
Reginald F. Wells,
Deputy Commissioner for Human Resources.

[FR Doc. 03-25876 Filed 10-10-03; 8:45 am]

BILLING CODE 4191-02-P